DEPARTMENT OF ENERGY

Federal Energy Regulatory Commission

[Docket No. RP93-109-018]

Williams Gas Pipelines Central, Inc.; Notice of Filing of Refund Report for Third-Party Environmental Proceeds

December 17, 2001.

Take notice that on December 11, 2001, Williams Gas Pipelines Central, Inc. (Williams) tendered for filing, pursuant to Article III, Paragraph D of the Stipulation & Agreement dated January 31, 2001 in Docket No. RP93-109-017, its refund report of environmental proceeds received from third-party insurers.

Article III states that Williams will allocate its pass-through of third-party environmental proceeds, if any, to Williams' customers based on firm reservation revenues during the twelve months ended September 30. Williams is herewith filing its report of third-party insurance proceeds received during the twelve months ended September 30, 2001, and the allocation, reflected on Schedule B, which sets forth the amount to be refunded to each party under the terms of this settlement. Williams will make the refunds to each of the customers listed thereon on or before January 31, 2002.

Williams states that a copy of its filing was served on all jurisdictional customers and interested state commissions.

Any person desiring to protest said filing should file a protest with the Federal Energy Regulatory Commission, 888 First Street, NE, Washington, DC 20426, in accordance with Section 385.211 of the Commission's Rules and Regulations. All such protests must be filed on or before December 26, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31444 Filed 12-20-01; 8:45 am]

BILLING CODE 6717-01-P